DEPARTMENT OF ENERGY

Notice of Recurring Public Meetings of the Supercritical CO2 Oxy-Combustion Technology Group: Correction

AGENCY: National Energy Technology Laboratory, Office of Fossil Energy, Department of Energy.

ACTION: Notice of recurring public meetings: Correction.

SUMMARY: The Department of Energy (DOE) published in the Federal Register on August 12, 2019 a notice of recurring public meetings for the Supercritical CO2 Oxy-Combustion Technology Group. The notice is being corrected to change the date of the next meeting.

Correction: In the Federal Register of August 12, 2019, in FR Doc. 2019-17206, on pages 39827-39828, please make the following corrections:

In the DATES heading, third column, second line, please remove October 8, 2019; and replace with: November 12, 2019.

In the SUPPLEMENTARY INFORMATION, Instructions and Information on Public Meetings heading, page 39828, first column, second line, please remove 10/8/2019; and replace with: November 12, 2019.

Dated: September 4, 2019.
Heather Quedenfeld,
Associate Director, Coal Technology Development & Integration Center, National Energy Technology Laboratory.

[FR Doc. 2019-20398 Filed 9-19-19; 8:45 am]

BILLING CODE 6450-01-P